DEPARTMENT OF TRANSPORTATION

National Highway Traffic Safety Administration

[Docket No. NHTSA 2002-13355; Notice 2]

Bridgestone/Firestone, Decision That Application for Determination That Noncompliance Is Inconsequential to Motor Vehicle Safety Is Moot

Bridgestone/Firestone has advised the National Highway Traffic Safety Administration (NHTSA) that it determined that approximately 4,700 P235/75R15 Dayton Timberline A/T tires do not meet the labeling requirements mandated by Federal Motor Vehicle Safety Standard (FMVSS) No. 109, “New Pneumatic Tires.” Pursuant to 49 U.S.C. 30118(d) and 30120(h), Bridgestone/Firestone has petitioned for a determination that this noncompliance is inconsequential to motor vehicle safety.

Notice of receipt of the application was published, with a 30-day comment period, on October 7, 2002, in the Federal Register (67 FR 62522). NHTSA received no comment on this application.

FMVSS No. 109, S4.3(b) and S4.3(c), require that each tire shall have permanently molded the maximum permissible inflation pressure and the maximum load rating of the tire, respectively. The Sao Paulo, Brazil plant produced noncompliant tires during weeks 40 through and including week 49 of the year 2001. The subject tires were mislabeled as “Extra Load.” The actual markings on the subject tires are:

Max load 920 Kg (2028 lbs.) at 300 kPa (44 psi) max press, Extra Load

The correct markings should be:

Max load 920 Kg (2028 lbs.) at 300 kPa (44 psi) max press.

Bridgestone/Firestone believes that the noncompliance is inconsequential as it relates to motor vehicle safety for the following stated reasons: “First, the subject tires with the exception of the “Extra Load” marking meet all the requirements of 49 CFR Part (sic) 109. Second, the subject tires were tested by Bridgestone/Firestone and meet the requirements of high speed, endurance, strength, and bead unseat as defined in 49 CFR Part (sic) 109 for the “Extra Load” designation. Third, the subject tires as shipped from the manufacturing plant were identified by tire labels and article number as standard load. Thus, the potential for sale of these tires as “Extra Load” is very small.”

This mislabeling does not constitute a noncompliance with FMVSS No. 109. The standard has no requirement that a tire be labeled with the words “extra load” even when it is designed to accommodate a greater load than a standard tire of the same size. The correct maximum load rating and the correct maximum inflation pressure are properly molded on the tires. These two values, along with other tire information such as tire size, are used by consumers in selecting replacement tires.

In consideration of the foregoing, NHTSA has decided that the tires in question do not exhibit a noncompliance with an FMVSS. Therefore, Bridgestone/Firestone's petition for an inconsequentiality exemption is moot.

Authority: (49 U.S.C. 30118, 30120; delegations of authority at 49 CFR 1.50 and 501.8)

Issued on: October 14, 2003.
Stephen R. Kratzke,
Associate Administrator for Rulemaking.

[FR Doc. 03-26509 Filed 10-20-03; 8:45 am]

BILLING CODE 4910-59-P